DEPARTMENT OF TRANSPORTATION

Federal Aviation Administration

14 CFR Parts 36, 43, 45, 48, 89, 91, 107, 108, 119, 133, 135, 137, and 146

[Docket No. FAA-FAA-2025-1908; Notice No. 25-07B]

RIN 2120-AL82

Normalizing Unmanned Aircraft Systems Beyond Visual Line of Sight Operations; Reopening of Comment Period

AGENCY: Federal Aviation Administration (FAA), Department of Transportation (DOT).

ACTION: Notice of proposed rulemaking; reopening of comment period.

SUMMARY: This action reopens the comment period for the notice of proposed rulemaking titled “Normalizing Unmanned Aircraft Systems Beyond Visual Line of Sight Operations” that was published in the Federal Register on August 7, 2025. FAA seeks additional comments on the electronic conspicuity and right-of-way topics identified in this notice.

DATES: Send comments on or before February 11, 2026.

ADDRESSES: Send comments identified by docket number FAA-2025-1908 using any of the following methods:

• Federal eRulemaking Portal: Go to https://www.regulations.gov/ and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Docket: Background documents or comments received may be read at https://www.regulations.gov/ at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michelle Ferritto, ARM-100, Federal Aviation Administration, 800 Independence Avenue SW, Washington, DC 20592; Phone: (844) 359-6982; Email: 9-FAA-UAS-BVLOS-Rule@faa.gov.

SUPPLEMENTARY INFORMATION: On August 7, 2025, the Federal Aviation Administration (FAA) and the Transportation Security Administration (TSA) published a notice of proposed rulemaking (NPRM) titled “Normalizing Unmanned Aircraft Systems Beyond Visual Line of Sight Operations” in the Federal Register (90 FR 38212; Notice No. 25-07). In that document, FAA proposed performance-based regulations to enable the design and operation of unmanned aircraft systems (UAS) mostly at low altitudes beyond visual line of sight (BVLOS) and for third-party services that support these operations including UAS Traffic Management. The comment period for the NPRM closed on October 6, 2025.

I. Summary of the Proposal

One of FAA's primary objectives in achieving its statutory mandate to enable routine BVLOS operations is ensuring deconfliction between these operations and other operations preexisting within the NAS. In the NPRM, FAA proposed changes to legacy right-of-way rules through provisions proposed in Title 14 of the Code of Federal Regulations (CFR) § 108.195(a)(2) and proposed aligning amendments to the legacy right-of-way rules codified at § 91.113.¹ The proposed right-of-way changes would give part 108 UAS operators presumptive right-of-way over manned aircraft except: (a) when the manned aircraft is broadcasting location data through Automatic Dependent Surveillance-Broadcast (ADS-B) Out or an approved alternate electronic conspicuity (EC) device alternate to ADS-B Out (hereinafter “alternate EC”); (b) in Class B or C airspace; (c) when the manned aircraft is taking off or landing at an airport or heliport; or (d) over Category 5 population areas. More than half of the approximately 3,100 comments received to the NPRM discussed the right-of-way proposal in some capacity.

¹ See Normalizing Unmanned Aircraft Systems Beyond Visual Line of Sight notice of proposed rulemaking 90 FR 38212 at 38244 (discussion on proposed § 108.195(a)(2) that would require that UA operating under part 108 yield to all manned aircraft broadcasting their position using ADS-B or EC equipment).

FAA also received substantial comments on its proposals in §§ 108.180(b) and 108.185(d)(5)(ii) that would require that unmanned aircraft (UA) operating in Class B and Class C airspace or over Category 5 populations areas be able to detect-and-avoid non-cooperative aircraft.² In the NPRM, FAA articulated that non-cooperative aircraft would mean those aircraft that are not actively broadcasting their location using ADS-B Out or an approved alternate EC device. FAA stated in the NPRM that it had considered mandating ADS-B Out for manned operations below 500 feet but had not proposed it due to concerns about the cost and burden. FAA also solicited comment on whether FAA should consider an equipage requirement in relation to EC devices for manned aircraft.

² See Supra at 38238 (discussion on proposed § 108.180(b) that would require that UAS operators in Class B and C airspace be equipped to detect and avoid non-cooperative aircraft).

II. Comments Received

FAA received significant comments on the aspects of the proposal described above. Public comments stated that FAA's proposal would introduce unnecessary complexity to right-of-way and result in confusion by creating varying right-of-way rules depending on different operational areas. Numerous commenters also raised significant practical concerns with requiring manned aircraft to yield to UA. Other commenters expressed concern that the proposed detect-and-avoid provisions would require prohibitively expensive technology that has not been adequately proven for safety value.

On the other hand, many commenters supported the broader use of ADS-B Out or alternate EC technologies to improve airspace safety and situational awareness and to facilitate the integration of UAS into the national airspace. Some commenters identified mandatory ADS-B or alternate EC for manned operators in low-altitude airspace as the preferred, and only viable, collision risk mitigation strategy. Within these comments, there was great interest in portable, lower-cost alternate EC devices as alternatives to ADS-B Out, which commenters expressed could address practical concerns and limitations specific to ADS-B Out. However, FAA notes that a smaller subset of commenters opposed expanded equipage requirements for manned aircraft, suggesting that unmanned aircraft should bear more of the integration costs. These commenters preferred detect-and-avoid requirements for part 108 operations, without offering solutions to the practical issues with FAA's proposal identified by other commenters.

III. Listening Sessions

On January 6, 2026, FAA held two listening sessions with members of the UAS manufacturing community and relevant industry associations.³ During these listening sessions, FAA heard general support for ADS-B or alternate EC devices, though opinions on specific requirements varied. Other attendees supported detect-and-avoid mandates. There were differing opinions on ADS-B Out versus alternate technologies. Some industry representatives raised concerns about the practicality of ADS-B for all environments, particularly at low altitudes and in complex operating conditions. Some attendees highlighted that the UAS industry is rapidly innovating so prescriptive requirements will hinder industry development, expressing preference for performance-based requirements not linked to specific technologies. Even though sentiments heard at the listening sessions largely echoed the comments to the NPRM, the sessions suggested that focusing the public's attention on certain aspects of the proposal may yield information helpful to FAA as it looks to finalize this rule.

³ See Docket No. FAA-2025-1908-3130, U.S. DOT/FAA—Memoranda to Docket from Listening Sessions (Jan. 15, 2026).

IV. Reopening of the Comment Period

Noting the substantial interest in, and comment on, FAA's proposed policies for ADS-B Out, EC, and detect-and-avoid, FAA is reopening the NPRM for comment on the limited topics discussed herein. FAA wants to ensure that it fully understands these comments and the relevant policy implications. Comments that have already been submitted will be considered in development of the final rule. Resubmission of duplicative comments will not entitle the comment to greater weight. Comments unrelated to the questions below will be treated as out of scope and will not be considered.

V. Request for Comments

During this reopening, FAA requests comments about the following:

1. Are there alternate EC devices capable of complying with proposed § 108.195(a)(2)(ii) that are available today? What are the names and manufacturers of those devices? Where are the devices currently approved for use and for what purpose(s)? Do any of them have the capability to inform the user that the device is not working properly?

2. Are these EC devices approved for the same purpose as ADS-B Out? Do these alternate EC devices provide other benefits beyond what ADS-B Out offers? Are existing alternate EC devices used for, or capable of providing, anonymity?

3. If not currently available, how quickly can alternate EC devices be available to the U.S. market once an approved standard is available?

4. Would the performance requirements of § 91.227 applicable to ADS-B Out also be appropriate for alternate EC devices? Why or why not?

5. RTCA has a standard for electronic conspicuity (RTCA DO-282C). Are there any reasons why applying this standard for alternate EC devices in the U.S. not be feasible or appropriate? Are there other existing industry consensus standards for EC that the FAA should consider accepting?

6. What would be the potential downside(s) of requiring EC devices to include some sort of indicator (e.g., visual or audio) to notify the pilot that the device is not working properly?

7. Are there other methods or technologies that the FAA should consider allowing manned operators to use to be electronically detectable besides ADS-B Out or alternate EC devices?

Accordingly, FAA is hereby reopening the comment period for 14 days. The comment period will close on February 11, 2026.

Issued under authority provided by 49 U.S.C. 106(f) and 44701, in Washington, DC.
Brandon Roberts,
Executive Director, Office of Rulemaking.

[FR Doc. 2026-01644 Filed 1-27-26; 8:45 am]

BILLING CODE 4910-13-P